DEPARTMENT OF HEALTH AND HUMAN SERVICES

Office of Inspector General

Healthcare Integrity and Protection Data Bank: Announcement of Opening Date for Querying and User Fees

AGENCY: Office of Inspector General (OIG), HHS.

ACTION: Notice.

SUMMARY: In accordance with final regulations implementing the Healthcare Integrity and Protection Data Bank (HIPDB) published in the Federal Register on October 26, 1999 (64 FR 57740), the Office of Inspector General (OIG) is announcing that the data bank will become operational for purposes of requesting information (querying) on health care practitioners, providers or suppliers, on March 6, 2000. The HIPDB had become operational for purposes of reporting information and accepting self-queries, as set forth in a Federal Register notice published on November 22, 1999 (64 FR 58851). In addition, the Department now is exercising its authority to impose a $4 fee for queries submitted by authorized entities to query the HIPDB, and a $10 fee for use of the Interactive Search Capability of the data bank that is available to authorized law enforcement agencies. In accordance with § 61.13 of the HIPDB final regulations, the HIPDB will assess a fee on all requests for information, except requests from Federal agencies.

SUPPLEMENTARY INFORMATION:

1. Opening Date for Querying

The HIPDB will accept queries from authorized entities, including authorized law enforcement agencies, beginning March 6, 2000. To submit queries, registered entities must use the HIPDB website at www.npdb-hipdb.com. Specific guidelines for querying also can be found on this website.

2. User fee amount

Section 1128E(d)(2) of the Social Security Act (the Act), as added by section 221(a) of the Health Insurance Portability and Accountability Act (HIPAA) of 1996, specifically authorizes the establishment of fees for the costs of processing requests for disclosure and for providing such information, and the final regulations at 45 CFR part 61 set forth the criteria and procedures for information to be reported to and disclosed by the HIPDB. The Act requires that the Department recover the full costs of operating the HIPDB through user fees. In determining any changes in the amount of the user fee, the Department is employing the criteria set forth in § 61.13(b) of the HIPDB regulations.

Specifically, § 61.13(b) states that the amount of each fee will be determined based on the following criteria:

• Direct and indirect personnel costs;

• Physical overhead, consulting, and other indirect costs including rent and depreciation on land, buildings and equipment;

• Agency management and supervisory costs;

• Costs of enforcement, research and establishment of regulations and guidance;

• Use of electronic data processing equipment to collect and maintain information, i.e., the actual cost of the service, including computer search time, runs and printouts; and

• Any other direct or indirect costs related to the provision of services.

In conjunction with the opening of the HIPDB for reporting and as part of its obligations under the Privacy Act, the Department had previously announced a $10 fee for health care practitioners, providers or suppliers to self-query (64 FR 58851). Based on the above criteria, the Department is now establishing a $4 fee for queries submitted by authorized entities and a $10 dollar fee for use of the Interactive Search Capability (ISC) available to authorized law enforcement agencies. The ISC permits free-form queries that are expressly designed to conform to the investigative nature of the request, and that typically contain significantly less identifying information than the standard structured queries available to non-law enforcement entities. The ISC involves far more data processing and greater cost per request. This additional cost is the result of the need to use an iterative, interactive algorithm to narrow a result to one appropriate record from an initial return of up to 100 records.

When an authorized entity query is submitted for information on one or more health care practitioners, providers or suppliers, the appropriate total fee will be $4 multiplied by the number of individuals or organizations about whom information is being requested. When an authorized law enforcement agency uses the ISC to obtain information on an individual or entity, the cost will be $10 for each individual or entity that the authorized law enforcement agency enters into the ISC.

In order to minimize administrative costs, the Department will accept queries submitted by authorized entities and authorized law enforcement agencies by credit card or electronic funds transfer. This fee is effective beginning March 6, 2000. The Department will continue to accept payment for self-queries only by credit card. The HIPDB accepts Visa, MasterCard, and Discover. To submit queries, registered entities (including law enforcement agencies) must use the HIPDB website at www.npdb-hipdb.com.

The Department will continue to review the user fee periodically, and will revise it as necessary. Any changes in the fee and its effective date will be announced through notice in the Federal Register.

Dated: February 23, 2000.
June Gibbs Brown,
Inspector General.

[FR Doc. 00-5169 Filed 3-2-00; 8:45 am]

BILLING CODE 4152-01-U